DEPARTMENT OF ENERGY

10 CFR Part 431

RIN 1904-AC04

Efficiency and Renewables Advisory Committee, Appliance Standards Subcommittee, Negotiated Rulemaking Subcommittee/Working Group for Liquid-Immersed and Medium-Voltage Dry Type Transformers

AGENCY: Department of Energy, Office of Energy Efficiency and Renewable Energy.

ACTION: Notice of open meeting.

SUMMARY: This document announces an open meeting of the Negotiated Rulemaking Working Group for Liquid-Immersed and Medium-Voltage Dry Type Transformers (hereafter “MV Group”). The MV Group is a working group within the Appliance Standards Subcommittee of the Efficiency and Renewables Advisory Committee (ERAC). The purpose of the MV Group is to discuss and, if possible, reach consensus on a proposed rule for regulating the energy efficiency of distribution transformers, as authorized by the Energy Policy Conservation Act (EPCA) of 1975, as amended, 42 U.S.C. 6313(a)(6)(C) and 6317(a). A separate Working Group on Low-Voltage Dry Type Transformers is being convened to discuss and, if possible, reach consensus on a proposed rule for regulating the energy efficiency of low-voltage transformers, as authorized by the Energy Policy Conservation Act (EPCA) of 1975, as amended, 42 U.S.C. 6313(a)(6)(C) and 6317(a) [76 FR 50148].

DATES: Thursday, September 15, 2011—9 a.m.-5 p.m.

Friday, September 16, 2011—9 a.m.-3 p.m.

ADDRESSES: Department of Energy, Forrestal Building, 1000 Independence Avenue, SW., Rooms 1E-245 and 8E-089, Washington, DC 20585. Please arrive at least 30 minutes early for building entry requirements, see the Public Participation section for more information.

FOR FURTHER INFORMATION CONTACT: John Cymbalsky, U.S. Department of Energy, Office of Building Technologies (EE-2J), 1000 Independence Avenue, SW., Washington, DC 20585-0121. Telephone: (202) 287-1692. E-mail: John.Cymbalsky@ee.doe.gov.

SUPPLEMENTARY INFORMATION:

Background: DOE has decided to use the negotiated rulemaking process to develop proposed energy efficiency standards for distribution transformers. The primary reasons for using the negotiated rulemaking process for developing a proposed Federal standard is that stakeholders strongly support a consensual rulemaking effort and DOE believes such a regulatory negotiation process will be less adversarial and better suited to resolving the complex technical issues raised by this rulemaking. An important virtue of negotiated rulemaking is that it allows expert dialog that is much better than traditional techniques at getting the facts and issues right and will result in a proposed rule that will effectively reflect Congressional intent.

A regulatory negotiation will enable DOE to engage in direct and sustained dialog with informed, interested, and affected parties when drafting the proposed regulation that is then presented to the public for comment. Gaining this early understanding of all parties' perspectives allows DOE to address key issues at an earlier stage of the process, thereby allowing more time for an iterative process to resolve issues. A rule drafted by negotiation with informed and affected parties is more likely to maximize benefits while minimizing unnecessary costs than one conceived or drafted without the opportunity for sustained dialog among interested and expert parties. DOE anticipates that there will be a need for fewer substantive changes to a proposed rule developed under a regulatory negotiation process prior to the publication of a final rule.

To the maximum extent possible, consistent with the legal obligations of the Department, DOE will use the consensus of the advisory committee or subcommittee as the basis for the rule the Department proposes for public notice and comment.

Membership: The Members of the MV Group were chosen from nominations submitted in response to the Department of Energy's call for nominations published in the Federal Register on Friday, July 29, 2011 [76 FR 45471]. The selections are designed to ensure a broad and balanced array of stakeholder interests and expertise on the negotiating working group for the purpose of developing a rule that is legally and economically justified, technically sound, fair to all parties, and in the public interest. All meetings are open to all stakeholders and the public, and participation by all is welcome within boundaries as required by the orderly conduct of business. The Members of the MV Group are as follows:

• Richard Anderson (Fayetteville PWC)

• Tim Ballo (Earthjustice)

• Scott Beck (Lakeview Metals)

• John Caskey (NEMA)

• Jerry Corkran (Cooper Power Systems)

• John Cymbalsky (DOE)

• Andrew DeLaski (ASAP)

• Tom Eckman (NWPower and Conservation Council)

• Gary Fernstrom (PG&E)

• Carlos Gaytan (GE Prolec)

• Robert Greeson (Federal Pacific)

• Bruce Hirsch (Baltimore Gas and Electric)

• Gerald Hodge (Howard Industries)

• Phil Hopkinson (HVOLT)

• Michael Hyland (APPA)

• David Millure (Metglas)

• Steve Nadel (ACEEE)

• Wes Patterson (ABB)

• Eric Petersen (AK Steel)

• Ray Polinski (Allegheny Ludlum)

• Steve Rosenstock (Edison Electric Institute)

• Robin Roy (NRDC)

• Robert Saint (NRECA)

• Chuck Simmons (Progress Energy)

• Mark Stoering (Xcel Energy; member of ERAC)

Purpose of the Meeting: To launch the process of seeking consensus on a proposed rule for the energy efficiency of liquid-immersed and medium-voltage dry type distribution transformers, as authorized by the Energy Policy Conservation Act (EPCA) of 1975, as amended, 42 U.S.C. 6313(a)(6)(C) and 6317(a).

Tentative Agenda: The meeting will start at 9 a.m. and will conclude at 5 p.m. on Thursday, September 15, 2011, in room 1E-245 and reconvene on Friday, September 16, 2011, from 9 a.m. until 3 p.m. in room 8E-089. The tentative meeting agenda includes introductions, agreement on facilitator and rules of procedure, presentations from DOE consultants on the results of their revised analysis of alternative candidate standard levels, and identification of the issues to be addressed by the negotiations, and any outstanding data needs.

Public Participation: Members of the public are welcome to observe the business of the meetings and to make comments related to the issues being discussed at appropriate points, when called on by the moderator. The facilitator will make every effort to hear the views of all interested parties within limits required for the orderly conduct of business. To attend the meeting and/or to make oral statements regarding any of the items on the agenda, e-mail erac@ee.doe.gov no later than 5 p.m., Thursday, September 8, 2011. Please include “MV Work Group 091511” in the subject line of the message. An early confirmation of attendance will help facilitate access to the building more quickly. In the e-mail, please provide your name, organization, citizenship and contact information. Space is limited.

Anyone attending the meeting will be required to present government-issued identification. Foreign nationals will be required, per DOE security protocol, to complete a questionnaire no later than one week prior to the meeting, Thursday, September 8, 2011.

Participation in the meeting is not a prerequisite for submission of written comments. ERAC invites written comments from all interested parties. If you would like to file a written statement with the committee, you may do so either by submitting a hard or electronic copy before or after the meeting. Electronic copy of written statements should be e-mailed to erac@ee.doe.gov.

Minutes: The minutes of the meeting will be available for public review at http://www.erac.energy.gov.

Issued in Washington, DC, on August 29, 2011.
LaTanya R. Butler,
Acting Deputy Committee Management Officer.

[FR Doc. 2011-22457 Filed 9-8-11; 8:45 am]

BILLING CODE 6450-01-P